SMALL BUSINESS ADMINISTRATION

[Declaration of Disaster #3394]

State of Oklahoma

As a result of the President's major disaster declaration for Public Assistance on February 1, 2002, and Amendments 1 and 2 adding Individual Assistance on February 7, 2002, I find that Alfalfa, Beaver, Beckham, Blaine, Caddo, Canadian, Cimarron, Cleveland, Comanche, Creek, Custer, Dewey, Ellis, Garfield, Garvin, Grady, Grant, Greer, Harmon, Harper, Jackson, Kay, Kingfisher, Kiowa, Lincoln, Logan, Major, McClain, Noble, Nowata, Oklahoma, Osage, Pawnee, Payne, Pottawatomie, Roger Mills, Rogers, Stephens, Texas, Tilman, Tulsa, Washington, Washita, Woods and Woodward in the State of Oklahoma constitute a disaster area due to damages caused by a severe winter ice storm occurring on January 30, 2002, and continuing. Applications for loans for physical damage as a result of this disaster may be filed until the close of business on April 2, 2002, and for economic injury until the close of business on November 1, 2002 at the address listed below or other locally announced locations: U.S. Small Business Administration, Disaster Area 3 Office, 4400 Amon Carter Blvd., Suite 102, Fort Worth, TX 76155.

In addition, applications for economic injury loans from small businesses located in the following contiguous counties may be filed until the specified date at the above location: Carter, Cotton, Craig, Jefferson, Mayes, Murray, Okfuske, Okmulgee, Pontotoc, Seminole and Wagoner in the State of Oklahoma; Baca county in the State of Colorado; Barber, Chautauqua, Clark, Comanche, Cowley, Harper, Labette, Meade, Montgomery, Morton, Seward, Stevens and Sumner counties in the State of Kansas; Union county in the State of New Mexico; Childress, Collingsworth, Dallam, Hansford, Hardeman, Hemphill, Lipscomb, Ochiltree, Sherman, Wheeler, Wichita and Wilbarger counties in the State of Texas.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 339411. For economic injury the number is 9O4800 for Oklahoma; 9O4900 for Colorado; 9O5000 for Kansas; 9O5100 for New Mexico; and 9O5200 for Texas.

(Catalog of Federal Domestic Assistance Program Nos. 59002 and 59008)
Dated: February 8, 2002.
Herbert L. Mitchell,
Associate Administrator for Disaster Assistance.

[FR Doc. 02-3711 Filed 2-14-02; 8:45 am]

BILLING CODE 8025-01-P ]